DEPARTMENT OF THE INTERIOR

Fish and Wildlife Service

50 CFR Part 17

RIN 1080-A117

Endangered and Threatened Wildlife and Plants; Reopening of the Comment Period and Announcement of a Public Meeting for the Proposed Rule To List the Columbia Basin Pygmy Rabbit as Endangered

AGENCY: Fish and Wildlife Service, Interior.

ACTION: Proposed Rule; notice of reopening of comment period and announcement of public meeting.

SUMMARY: We, the U.S. Fish and Wildlife Service (Service), provide notice of the reopening of the comment period for the proposed rule to list the Columbia Basin distinct population segment of the pygmy rabbit (Brachylagus idahoensis) as endangered. The comment period is reopened to accommodate requests by State resource agencies and private interests for additional time to provide input. We have also scheduled a public meeting during the reopened comment period to discuss the information we have available for this proposed action, and to facilitate submission of additional information and comments from all interested parties.

DATES: The original comment period for the proposed rule was scheduled to close January 29, 2002. With this reopening notification, written comments may now be submitted until February 28, 2002. The public meeting will be held from 7 p.m. to 9 p.m. on Tuesday, February 12, 2002.

ADDRESSES: Written comments, data, reports, map products, and other information concerning the proposed rule should be sent by mail or hand-delivered to the Supervisor, U.S. Fish and Wildlife Service, Upper Columbia Fish and Wildlife Office, 11103 East Montgomery Drive, Spokane, Washington 99206. The public meeting will be held in the auditorium of the Douglas County Public Utility District Office, 1151 Valley Mall Parkway, East Wenatchee, Washington 98802. Additional information and written comments may also be hand delivered at the public meetings.

FOR FURTHER INFORMATION CONTACT: Chris Warren at the Upper Columbia Fish and Wildlife Office (address listed above; telephone 509/891-6839; facsimile 509/891-6748).

SUPPLEMENTARY INFORMATION:

Background

Historically, the Columbia Basin pygmy rabbit occurred in dense, shrub steppe habitats in five central Washington counties. Currently, this population segment consists of a single known wild colony, totaling fewer than 25 individuals in Douglas County, Washington, and an additional 17 individuals that are being held in captivity. The Columbia Basin pygmy rabbit is imminently threatened by its extremely small population size and restricted distribution, coupled with the risks from catastrophic environmental events, habitat impacts, disease, predation, and loss of genetic heterogeneity.

Pursuant to the Endangered Species Act of 1973, as amended (16 U.S.C. 1531 et seq.) (Act), we published an emergency rule to list the Columbia Basin pygmy rabbit as endangered on November 30, 2001 (66 FR 59734). The emergency rule provides immediate Federal protection to this distinct population segment for a period of 240 days. We also published a proposed rule on November 30, 2001, to list the Columbia Basin pygmy rabbit as endangered under our normal listing procedures (66 FR 59769).

For further information regarding background biological information, previous Federal actions, factors affecting the species, and conservation measures available to the Columbia Basin pygmy rabbit, please refer to our emergency and proposed rules published in the Federal Register on November 30, 2001.

Public Comments Solicited

With this notification, we solicit additional information and comments that may assist us in making a final decision on the proposed rule to list the Columbia Basin pygmy rabbit as endangered. We intend that any final listing action resulting from our proposal will be as accurate and effective as possible. Therefore, we request comments and additional information from the general public, other concerned governmental agencies, the scientific community, industry, or any other interested party concerning this proposed rule. Comments are particularly sought concerning:

(1) Biological, commercial trade, or other relevant data regarding any threat (or lack thereof) to the Columbia Basin pygmy rabbit;

(2) Information regarding the range, distribution, and population size of this distinct population segment, including the locations of any additional colonies of the Columbia Basin pygmy rabbit;

(3) Information (e.g., maps, data, unpublished reports) and justification regarding why any habitat should or should not be determined to be critical habitat for the Columbia Basin pygmy rabbit as provided by section 4 of the Act;

(4) Current or planned activities that could potentially impact the Columbia Basin pygmy rabbit.

In making any final decision on the proposed action, we will take into consideration the comments and any additional information we receive, and such communications may lead to a final regulation that differs from the proposal.

Author

The primary author of this notice is Chris Warren of the Upper Columbia Fish and Wildlife Office (see ADDRESSES section).

Authority

The authority of this action is the Endangered Species Act of 1973, as amended (16 U.S.C. 1531 et seq.).

Dated: January 18, 2002.
David J. Wesley,
Acting Regional Director, Fish and Wildlife Service.

[FR Doc. 02-2924 Filed 2-6-02; 8:45 am]

BILLING CODE 4310-55-P